DEPARTMENT OF AGRICULTURE

Forest Service

Gallatin National Forest; Montana; Jack Rabbit to Big Sky Meadow Village 161 kV Transmission Line Upgrade Project

AGENCY: Forest Service, USDA.

ACTION: Notice of intent to prepare an environmental impact statement.

SUMMARY: The U.S. Forest Service (Forest Service) is preparing an environmental impact statement (EIS) to consider potential effects of a proposed project by NorthWestern Energy to rebuild an existing 69-kilovolt (kV) electric transmission line to a 161-kV electric transmission line. The upgraded 161-kV transmission line would connect the existing Jack Rabbit Substation located near Four Corners, west of Bozeman, Montana, to a new substation near Big Sky Meadow Village in Big Sky, Montana. Alternatives for the proposed transmission line would pass through private, state, and federally managed lands in Montana. Federally managed lands include National Forest System (NFS) lands administered by the Gallatin National Forest. The Forest Service will consider whether to authorize the construction, operation and maintenance activities along and within the existing right of way for the portion of the transmisson line that is on NFS lands, approximately 16 miles of the proposed 37-mile route.

DATES: Comments concerning the scope of the analysis must be received by July 8, 2010. The draft EIS is expected in December 2010 and the final EIS is expected in April 2011.

ADDRESSES: Send written comments to Teri Seth, Forest Service Project Manager, Gallatin National Forest, 3710 Fallon Street, Suite C, Bozeman, MT 59718. Comments may also be sent via e-mail to comments-northern-gallatin@fs.fed.us or via facsimile to (406) 522-2528. Electronic comments must be submitted with Microsoft word software.

It is important that reviewers provide their comments at such times and in such a way that they are useful to the Agency's preparation of the EIS. Therefore, comments should be provided prior to the close of the comment period and should clearly articulate the reviewer's concerns and contentions specific to this proposal on NFS lands.

Comments received in response to this solicitation, including names and addresses of those who comment, will be part of the public record for this proposed action. Comments submitted anonymously will be accepted and considered, also.

FOR FURTHER INFORMATION CONTACT: Teri Seth, Forest Service Project Manager, Gallatin National Forest; or Lisa Stoeffler, District Ranger. Both contacts can be reached at 406/522-2520. For additional project details you can also go to the Gallatin Forest Webpage, look for the Big Sky 161 kV Upgrade Project on the Planning page: http://www.fs.fed.us/rl/gallatin/?page=projects.

Individuals who use telecommunication devices for the deaf (TDD) may call the Federal Information Relay Service (FIRS) at 1-800-877-8339 between 8 a.m. and 8 p.m., Eastern Time, Monday through Friday.

SUPPLEMENTARY INFORMATION:

Purpose and Need for Action

The Gallatin Valley and Big Sky, MT are among the fastest growing areas within NorthWestern Energy's service territory. NorthWestern Energy is the sole electricity provider for the project area. Electrical Utility companies in the United States must plan, operate, and maintain their transmission systems according to the North American Electrical Reliability Corporation (NERC) reliability standards. NERC develops and enforces reliability standards; monitors power systems; assesses future adequacy; audits owners, operators, and users for preparedness; and educates and trains industry personnel. NERC works with eight regional entities to improve the reliability of the bulk power system. The Jack Rabbit to Big Sky Meadows system operates under the guidance of the Western Electric Coordinating Council (WECC). Utility companies must remain in compliance with these industry standards. When loop service is provided to an area or load, utility transmission systems must be built with sufficient levels of redundancy to enable the transmission system to reliably operate in the event of the loss of any single element (e.g. transmission line segment or substation element). In the simplest application of these standards, a bulk transmission system consisting of one line and one substation will have to be constructed with an additional (redundant) line and necessary substation components capable of providing backup electrical paths in the event an element of the system is lost due to forced outage or outage required for maintenance.

The electrical power demand in the Big Sky area is currently served from two 69 kV transmission lines—one from the Ennis Auto Substation at Ennis, MT and the other from Jack Rabbit Auto Substation near Four Corners west of Bozeman, MT. On an annual basis, current usage exceeds capacity of the Jack Rabbit Auto 69 kV line about 40% of time. In the event of a power outage from the Ennis Auto side, there is inadequate infrastructure to serve the electrical load from the Jack Rabbit Auto and some level of power outage would be experienced in the entire area. As the Big Sky area continues to grow, this situation will worsen. These reliability shortfalls do not meet industry standards.

Rebuilding and upgrade of the existing 69 kV line to a 161 kV facility between the Jack Rabbit substation and the Meadow Village substation, along with building a new Meadow Village Substation and an upgraded distribution circuit, eliminates the adequacy and reliability problems associated with the current electric transmission system. This proposed project would meet the current energy demands and provide for anticipated growth, which would better comply with industry standards and customer needs.

Proposed Action

The Gallatin National Forest proposes to authorize the construction, operation and maintenance of an entirely new transmission and distribution line facility along and within the existing right of way for the portion of the line on National Forest System lands. Construction of the project would take one to two years to complete. Construction would be scheduled to begin in 2011 with the system coming on line, energized at the 161-kV level, during the fall of 2013. The design, construction, operation and maintenance of the project would meet or exceed the requirements of the National Electrical Safety Code (NESC), U.S. Department of Labor, Occupational Safety and Health Standards, Western Electricity Coordinating Council (WECC) Transmission System Performance and Reliability Criteria and North Western Energy's requirements for safety and the protection of landowners and their property.

The Forest Service will also consider the no-action alternative in the ETS. Under the no-action alternative, the existing special use permit would remain in place and maintenance of the existing 69 kV line would be continued.

Responsible Official

Forest Supervisor, Gallatin National Forest.

Nature of Decision To Be Made

The decision framework refers to the scope of the decision that will be issued at the conclusion of this analysis by the Responsible Official. The decision will be based on information disclosed in the EIS and comments submitted during the scoping of the proposed action and the comment period. The decision maker will take into consideration relationships of alternatives to the identified significant issues.

The Responsible Official may decide whether or not to:

• Authorize the rebuild and/or upgrade of the transmission and distribution line for the portion of the Jack Rabbit to Big Sky Meadow Village Transmission Line on NFS land;

• What if any associated activities, mitigation measures, restoration actions or monitoring would be included in the decision

• Whether a site specific Forest Plan Amendment is needed.

Preliminary Issues

Northwestern Energy and the Forest Service previously held internal and public information meetings in April 2009 to obtain input on issues and concerns for the proposed action. Through these initial activities, the Forest Service identified the need for an ETS and the following issues, potential impacts, mitigation measures, and alternatives to the proposed action:

• Cultural and archeological resources

• Visual resources/Scenery

• Human health and safety (including electric and magnetic fields)

• Recreation and land use (including special management designations on public land)

• Socioeconomics (including property value impacts and impacts to ratepayers)

• Soils and geology

• Biological resources (wildlife, special status plants and animals, invasive weeds, snag habitat)

• Water resources and wetlands

• Road blockages and power outages from construction

• Fire risk

• Reclamation practices

• Alternative energy generation

• Alternative transmission methods (i.e. underground lines)

• Consideration of adding a second line on Ennis side

• Consideration of reroutes near Cascade Creek homes/Lava Lake Trailhead area, Greek Creek homes and the Deer Creek Trailhead areas.

Permits or Licenses Required

Permits would be required to construct, operate and maintain the proposed project. A special use authorization is required for use of NFS lands. A utility encroachment/occupancy permit would need to be obtained from the Montana Department of Transportation to cross and occupy the right-of-way of US 191 that extends through the Gallatin National Forest. Montana Department of Environmental Quality would require a Joint Application for Proposed Work in Streams, Lakes and Wetlands. Depending on the resources impacted by the proposed action and alternatives, other permits may be required and will be identified in the EIS.

Scoping Process

This notice of intent initiates the scoping process, which guides the development of the environmental impact statement. The Forest Service encourages you to send your comments concerning the proposed action, possible mitigation measures, and any other information relevant to the proposal.

Any persons wanting to be added to a mailing list of interested parties can call or write to Forest Service, as described in this notice. Additional announcements will be made by news release to the Bozeman Daily Chronicle and other media outlets. Scoping meetings were held last spring and summer. No additional meetings are planned. All comments received by the Forest Service during the scoping comment period in March/April 2009 and the follow-up meetings will be considered and are part of the record for this EIS. You are encouraged to submit additional issues but there is no need to resubmit previously submitted comments or concerns. All comments will be considered in the EIS.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). 5

Because of these court rulings, it is very important that those interested in this proposed action participate during comment periods provided so that substantive comments and objections are made available to the Forest Service at a time when they can meaningfully consider them. To assist the Forest Service in identifying and considering issues, comments should be specific to concerns associated with the upgraded 161-kV transmission line. Reviewers may wish to refer to the Council on Environmental Quality Regulations for implementing the procedural provisions of the National Environmental Policy Act at 40 CFR 1503.3 in structuring comments.

Dated: May 25, 2010.
Mary C. Erickson,
Forest Supervisor.

[FR Doc. 2010-13499 Filed 6-7-10; 8:45 am]

BILLING CODE 3410-11-M